FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 004630NF.

Name: Airborne Express, Inc.

Address: 3101 Western Avenue, P.O. Box 662, Seattle, WA 98111-0662.

Date Revoked: October 19, 2004.

Reason: Surrendered licensed voluntarily.

License Number: 000754F.

Name: Christian Bay Shipping Co. dba Fillette, Green & Co. Of Tampa dba Fillette, Green Freight Forwarding Services dba St. Andrews Bay Co.

Address: 259 East Scenic Drive, Pass Christian, MS 39571.

Date Revoked: October 20, 2004.

Reason: Failed to maintain a valid bond.

License Number: 016415N.

Name: DSR Shipping Co., Inc.

Address: 495 Union Avenue, Middlesex, NJ 08846.

Date Revoked: October 9, 2004.

Reason: Failed to maintain a valid bond.

License Number: 004108F.

Name: DRT International, Incorporated.

Address: 7762 NW 72nd Avenue, Medley, FL 33166.

Date Revoked: October 24, 2004.

Reason: Failed to maintain a valid bond.

License Number: 018415N.

Name: Global Link Logistics, Inc.

Address: 2300 Henderson Mill Road, Suite 208, Atlanta, GA 30345.

Date Revoked: October 23, 2004.

Reason: Failed to maintain a valid bond.

License Number: 015105N.

Name: H & T International Transportation (USA), Inc.

Address: 320 Pine Avenue, Suite 907, Long Beach, CA 90802.

Date Revoked: October 20, 2004.

Reason: Failed to maintain a valid bond.

License Number: 017940F.

Name: Kristen Brandimarte dba Emmeli Shipping.

Address: 3200 Sunset Avenue, Suite 209, Ocean, NJ 07712.

Date Revoked: October 21, 2004.

Reason: Failed to maintain a valid bond.

License Number: 016027F.

Name: Lion Exhibition Freight, Inc.

Address: 1153 Willingham Drive, Atlanta, GA 30349.

Date Revoked: October 23, 2004.

Reason: Failed to maintain a valid bond.

License Number: 015640N.

Name: Mediterranean Container Line, Inc.

Address: 45 E. 33rd Street, Suite 206, New York, NY 10016.

Date Revoked: October 24, 2004.

Reason: Failed to maintain a valid bond.

License Number: 013226N.

Name: Mi Hyun Sur dba Important Cargo Express Company.

Address: 1553 West 139th Street, Gardena, CA 90249.

Date Revoked: October 17, 2004.

Reason: Failed to maintain a valid bond.

License Number: 017720NF.

Name: Orion Logistics Inc.

Address: 9688 Fontaine Bleau Blvd., #509, Miami, FL 33172.

Date Revoked: October 21, 2004.

Reason: Failed to maintain valid bonds.

License Number: 014396NF.

Name: Planes Moving & Storage, Inc.

Address: 9823 Cincinnati-Dayton Road, West Chester, PA 45069.

Date Revoked: October 13, 2004.

Reason: Failed to maintain valid bonds.

License Number: 001286N and 001286F.

Name: Ros Forwarding, Inc.

Address: 8420 NW 58th Street, Miami, FL 33166.

Date Revoked: October 7, 2004 and October 3, 2004.

Reason: Failed to maintain valid bonds.

License Number: 003802F.

Name: Shipping International, Inc.

Address: 352 Wood Ibis Avenue, Tarpon Springs, FL 34689.

Date Revoked: October 21, 2004.

Reason: Failed to maintain a valid bond.

License Number: 015524N.

Name: Sunflower Van Lines, Inc.

Address: 148 W. 132nd Street, Suite E, Los Angeles, CA 90061.

Date Revoked: October 28, 2004.

Reason: Failed to maintain a valid bond.

License Number: 015029N.

Name: Taekwang Logistics Corporation dba TLC Express Lines dba Challenger Merchandise Shipping Line.

Address: 222 E. Redondo Beach Blvd., Unit F, Gardena, CA 90248.

Date Revoked: October 28, 2004.

Reason: Failed to maintain a valid bond.

License Number: 014862N.

Name: United Trade Resources, Inc.

Address: 17595 Almahurst Road, Suite 205, City of Industry, CA 91748.

Date Revoked: October 10, 2004.

Reason: Failed to maintain a valid bond.

License Number: 004378F.

Name: World 2000 Services, Inc.

Address: 3811 N.W. 2nd Avenue, Miami, FL 33127.

Date Revoked: October 22, 2004.

Reason: Surrendered license voluntarily.

Sandra L. Kusumoto,
Director, Bureau of Certification and Licensing.

[FR Doc. 04-25160 Filed 11-10-04; 8:45 am]

BILLING CODE 6730-01-P